DEPARTMENT OF TRANSPORTATION

Pipeline and Hazardous Materials Safety Administration

International Standards on the Transport of Dangerous Goods

DEPARTMENT OF LABOR

Occupational Safety and Health Administration

[Docket No. PHMSA-2013-0237, Notice No. 13-17]

Preparations for the 44th Session of the United Nations Sub-Committee of Experts on the Transport of Dangerous Goods (UNSCOE TDG) and the 26th Session of the UN Sub-Committee of Experts on the Globally Harmonized System of Classification and Labelling of Chemicals (UNSCEGHS)

AGENCY: Pipeline and Hazardous Materials Safety Administration (PHMSA), Department of Transportation and the Occupational Safety and Health Administration (OSHA), Department of Labor.

ACTION: Notice of public meeting.

SUMMARY: This notice is to advise interested persons that PHMSA and OSHA will conduct a joint public meeting in preparation for United Nations meetings being held in Geneva, Switzerland. PHMSA is hosting the morning portion of the meeting to discuss proposals in preparation for the 44th session of the United Nations Sub-Committee of Experts on the Transport of Dangerous Goods (UNSCOE TDG) to be held November 25 to December 4, 2013, in Geneva. During this meeting, PHMSA is also soliciting comments relative to potential new work items which may be considered for inclusion in its international agenda. OSHA is hosting the afternoon portion of the meeting to discuss proposals in preparation for the 26th session of the United Nations Sub-Committee of Experts on the Globally Harmonized System of Classification and Labelling of Chemicals (UNSCEGHS) to be held December 4 to 6, 2013, in Geneva. OSHA, along with the U.S. Interagency GHS (Globally Harmonized System of Classification and Labelling of Chemicals) Coordinating Group, plans to consider the comments and information gathered at this public meeting when developing the U.S. Government positions for the UNSCEGHS meeting.

DATES: The meeting will be held on Tuesday, November 19, 2013. The PHMSA Session will be from 9:00 a.m. to 12:00 noon; while the OSHA Session will be from 1:30 p.m. to 4:30 p.m.

ADDRESSES: The meeting will be held at the DOT Headquarters, West Building, Conference Room 7, 1200 New Jersey Avenue SE., Washington, DC 20590.

Registration: It is requested that attendees pre-register for this meeting by completing the form at http://www.phmsa.dot.gov/hazmat/regs/international. Attendees may pre-register for the morning PHMSA session, the afternoon OSHA session, or both sessions of the meeting. Failure to pre-register may delay your access to the building. Participants attending in person are encouraged to arrive early to allow time for security checks necessary to obtain access to the building.

Conference call-in and “live meeting” capability will be provided for this meeting. Specific information on call-in and live meeting access will be posted when available at http://www.phmsa.dot.gov/hazmat/regs/international and at http://www.osha.gov/dsg/hazcom/.

FOR FURTHER INFORMATION CONTACT: Vincent Babich or Kevin Leary, Office of Hazardous Materials Safety, International Standards, Department of Transportation, Washington, DC 20590; telephone (202) 366-8553. You may also contact Maureen Ruskin, Office of Chemical Hazards-Metals, OSHA Directorate of Standards and Guidance, OSHA, U.S. Department of Labor, Room N-3178, 200 Constitution Avenue NW., Washington, DC 20210; telephone: (202) 693-1950.

Copies of this Federal Register notice can be obtained as follows: Electronic copies are available at http://www.regulations.gov. This Federal Register notice, as well as other relevant information, is available also on the OSHA Web page at http://www.osha.gov.

SUPPLEMENTARY INFORMATION:

I. PHMSA Public Meeting (November 19, 2013; 9:00 a.m.-12:00 Noon)

The primary purpose of this meeting will be to prepare for the 44th session of the UNSCOE TDG. The 44th session of the UNSCOE TDG is the second of four meetings scheduled for the 2013-2014 biennium. The UNSCOE will consider proposals for the 19th Revised Edition of the United Nations Recommendations on the Transport of Dangerous Goods Model Regulations which will be implemented within relevant domestic, regional, and international regulations from January 1, 2017. Copies of working documents, informal documents, and the meeting agenda may be obtained from the United Nations Transport Division's Web site at http://www.unece.org/trans/main/dgdb/dgsubc3/c3age.html.

General topics on the agenda for the UNSCOE TDG meeting include:

• Listing, classification and packing

• Electric storage systems

• Transport of gases

• Miscellaneous proposals of amendments to the Model Regulations

• Electronic data interchange for documentation purposes

• Cooperation with the International Atomic Energy Agency (IAEA)

• Global harmonization of transport of dangerous goods regulations

• Globally Harmonized System of Classification and Labeling of Chemicals (GHS)

Following the 44th session of the UNSCOE TDG, a copy of the Sub-Committee's report will be available at the United Nations Transport Division's Web site at http://www.unece.org/trans/main/dgdb/dgsubc3/c3rep.html. PHMSA's site at http://www.phmsa.dot.gov/hazmat/regs/international provides additional information regarding the UNSCOE TDG and related matters.

II. OSHA Public Meeting (November 19, 2013; 1:30 p.m.-4:30 p.m.)

OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.-Canada Regulatory Cooperation Council (RCC) at the meeting. The public is invited to attend and is requested to pre-register for the meeting by following the instructions provided in the Registration section of this notice. General topics on the agenda include:

• Review of Working papers

• Working Group updates

• Regulatory Cooperation Council (RCC) Update

Information on the work of the UNSCEGHS including meeting agendas, reports, and documents from previous sessions, can be found on the United Nations Economic Commission for Europe (UNECE) Transport Division Web site located at the following web address: http://www.unece.org/trans/welcome.html. The UNSCEGHS bases its decisions on Working Papers. The Working Papers for the 26th session of the UNSCEGHS are located at http://www.unece.org/trans/main/dgdb/dgsubc4/c42013.html.

Informal Papers submitted to the UNSCEGHS provide information for the subcommittee and are used either as a mechanism to provide information to the subcommittee or as the basis for future Working Papers. Informal Papers for the 26th session of the UNSCEGHS are located at http://www.unece.org/trans/main/dgdb/dgsubc4/c4inf26.html.

III. Authority and Signature

Magdy El-Sibaie, Associate Administrator for Hazardous Materials Safety directed the preparation of this notice.

Signed at Washington, DC, on November 7, 2013.
Magdy El-Sibaie,
Associate Administrator for Hazardous Materials Safety.

David Michaels, Ph.D., MPH, Assistant Secretary of Labor for Occupational Safety and Health, authorized the preparation of this notice under the authority granted by the Secretary of Labor's Order No. 1-2012 (77 FR 3912, Jan. 25, 2012).

Signed at Washington, DC, on October 29, 2013.
David Michaels,
Assistant Secretary of Labor for Occupational Safety and Health.

[FR Doc. 2013-27235 Filed 11-13-13; 8:45 am]

BILLING CODE 4910-60- 4510-26-P